DEPARTMENT OF COMMERCE

Foreign-Trade Zones Board

[Order No. 1416]

Approval of Manufacturing Authority, Within Foreign-Trade Zone 222, Montgomery, Alabama, Mobis Alabama, LLC, (Automotive Components and Subassemblies)

Pursuant to its authority under the Foreign-Trade Zones Act of June 18, 1934, as amended (19 U.S.C. 81a-81u)(the Act), the Foreign-Trade Zones Board (the Board) adopts the following Order:

Whereas, the Montgomery Area Chamber of Commerce, grantee of FTZ 222, has requested authority under Section 400.32(b)(1) of the Board's regulations on behalf of Mobis Alabama, LLC, to manufacture automotive components and subassemblies under FTZ procedures within FTZ 222 Site 3, Montgomery, Alabama (Docket 58-2004, filed 12-15-2004);

Whereas, pursuant to 15 CFR 400.32(b)(1), the Commerce Department's Assistant Secretary for Import Administration has the authority to act for the Board in making such decisions on new manufacturing/processing activity under certain circumstances, including situations where the proposed activity is the same, in terms of products involved, to activity recently approved by the Board (§ 400.32(b)(1)(i));

Whereas, the FTZ Staff has reviewed the proposal, taking into account the criteria of Section 400.31, and the Executive Secretary has recommended approval, subject to restriction; and,

Whereas, approval is subject to a restriction requiring that all foreign items classified under HTSUS 3921.90 and Textile Category 229 must be admitted to the zone under privileged foreign status (19 CFR § 146.41).

Now, therefore, the Assistant Secretary for Import Administration, acting for the Board pursuant to Section 400.32(b)(1), concurs in the recommendation and hereby approves the request subject to the Act and the Board's regulations, including Section 400.28.

Signed at Washington, DC, this 21st day of October 2005.
Joseph A. Spetrini,
Acting Assistant Secretary of Commerce for Import Administration, Alternate Chairman, Foreign-Trade Zones Board.
Attest:
Dennis Puccinelli,
Executive Secretary.

[FR Doc. 05-21771 Filed 10-31-05; 8:45 am]

BILLING CODE 3510-DS-S